DEPARTMENT OF DEFENSE

GENERAL SERVICES ADMINISTRATION

NATIONAL AERONAUTICS AND SPACE ADMINISTRATION

48 CFR Parts 27 and 52

[FAR Case 1998-018 (Public Meeting)]

Federal Acquisition Regulation; Trademarks for Government Products

AGENCIES: Department of Defense (DoD), General Services Administration (GSA), and National Aeronautics and Space Administration (NASA).

ACTION: Notice of public meeting.

SUMMARY: The Director of Defense Procurement and the General Services Administration Deputy Associate Administrator for Acquisition Policy are cosponsoring a public meeting to discuss the proposed Federal Acquisition Regulation (FAR) rule 1998-018, Trademarks for Government Products, that was published in the Federal Register at 66 FR 42101 on August 9, 2001. Five written comments were submitted in response to the Federal Register notice; in addition, articles have been published discussing the proposed rule. After reviewing the public comments, the cosponsors would like to explore further the views of interested parties regarding the key issues raised in the proposed rule. Copies of the five written comments, and a list of possible issues for discussion at the public meeting, are available on the Defense Procurement internet home page at http://www.acq.osd.mil/dp/.

If necessary to ensure that all of the views of the interested parties have been heard, subsequent public meetings may be held concerning issues raised by the proposed rule. The dates and times of any subsequent meetings will be published after the initial meeting on the Defense Procurement internet home page at http://www.acq.osd.mil/dp/.

DATES: The first meeting will be held on May 9, 2002, from 8 a.m. to 5 p.m. with an hour break for lunch at 12 p.m.

ADDRESSES: The public meeting will be held in room C-43, Crystal Mall Building 4, 1941 Jefferson Davis Highway, Arlington, VA 22202.

FOR FURTHER INFORMATION CONTACT: William H. Anderson, Chair, Defense Acquisition Regulations Council Committee on Patents, Data, and Copyrights, by telephone at (703) 588-5090, by fax at (703) 588-8037, or by e-mail at William.Anderson@pentagon.af.mil.

Dated: April 3, 2002.
Jeremy Olson,
Acting Deputy Director, Acquisition Policy Division.

[FR Doc. 02-8452 Filed 4-8-02; 8:45 am]

BILLING CODE 6820-EP-P